DEPARTMENT OF HOMELAND SECURITY

Coast Guard

33 CFR Part 117

[Docket No. USCG-2020-0647]

RIN 1625-AA09

Drawbridge Operation Regulation; New Jersey Intracoastal Waterway, Point Pleasant, NJ; Correction

AGENCY: Coast Guard, Department of Homeland Security (DHS).

ACTION: Correcting amendments.

SUMMARY: The Coast Guard published a final rule in the Federal Register on August 23, 2021, which was effective on September 22, 2021, announcing changes to the Route 88 (Veterans Memorial) Bridge and Route 13 (Lovelandtown) Bridge across the NJICW at Point Pleasant Canal, mile 3.0 and 3.9, respectively at Point Pleasant, NJ. The amendatory instruction within that final rule was incorrect and the changes could not be incorporated into the CFR. This correcting amendment incorporates those changes into the CFR.

DATES: The correction is effective on October 5, 2021.

ADDRESSES: To view documents mentioned in this preamble as being available in the docket, go to https://www.regulations.gov, type USCG-2020-0647. In the “SEARCH” box and click “SEARCH.” Click on Open Docket Folder on the line associated with this rulemaking.

FOR FURTHER INFORMATION CONTACT: If you have questions on this rule, call or email Mr. Mickey Sanders, Bridge Administration Branch, Fifth District, U.S. Coast Guard, telephone (757) 398-6587, email Mickey.D.Sanders2@uscg.mil.

SUPPLEMENTARY INFORMATION:

Correction

On August 23, 2021, the Coast Guard published a final rule titled “Drawbridge Operation Regulation; New Jersey Intracoastal Waterway, Point Pleasant, NJ” (86 FR 46966). This final rule amended 33 CFR 117.733. However, amendatory instruction number 2.c. incorrectly redesignated seven paragraphs into only six paragraphs.

List of Subjects in 33 CFR Part 117

Bridges.

Accordingly, 33 CFR part 117 is corrected by making the following correcting amendments:

PART 117—DRAWBRIDGE OPERATION REGULATIONS

1. The authority citation for part 117 continues to read as follows:

Authority: 33 U.S.C. 499; 33 CFR 1.05-1; and Department of Homeland Security Delegation No. 0170.1.

2. Amend § 117.733 by:

a. Removing paragraphs (i) and (j);

b. Redesignating paragraphs (b) through (h) as (d) through (j); and

c. Adding new paragraphs (b) and (c).

The additions read as follows:

§ 117.733 New Jersey Intracoastal Waterway.

* * * * *

(b) The draw of the Route 88 Bridge, mile 3.0, across Point Pleasant Canal at Point Pleasant, shall operate as follows:

(1) From 7 a.m. to 11 p.m. the draw shall open on signal.

(2) From 11:01 p.m. to 6:59 a.m. the draw shall open on signal, if at least four hours advance notice is given.

(c) The draw of the Route 13 Bridge, mile 3.9, across Point Pleasant Canal at Point Pleasant, shall operate as follows:

(1) From 7 a.m. to 11 p.m. the draw shall open on signal.

(2) From 11:01 p.m. to 6:59 a.m. the draw shall open on signal, if at least four hours advance notice is given.

* * * * *

Dated: September 29, 2021.
M.T. Cunningham,
Chief, Office of Regulations and Administrative Law, U.S. Coast Guard.

[FR Doc. 2021-21628 Filed 10-4-21; 8:45 am]

BILLING CODE 9110-04-P